NATIONAL AERONAUTICS AND SPACE ADMINISTRATION

[Notice: 06-096]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, Mail Code JE000, National Aeronautics and Space Administration, Washington, DC 20546-0001.

FOR FURTHER INFORMATION CONTACT: Requests for additional information or copies of the information collection instrument(s) and instructions should be directed to Mr. Walter Kit, NASA PRA Officer, NASA Headquarters, 300 E Street, SW., Mail Code JE000, Washington, DC 20546, (202) 358-1350, Walter.Kit-1@nasa.gov.

SUPPLEMENTARY INFORMATION:

I. Abstract

Information collection is required to evaluate bids and proposals from offerors to award Purchase Orders and to use bank cards for required goods and services in support of NASA's mission.

II. Method of Collection

NASA collects this information electronically where feasible, but information may also be collected by mail or fax.

III. Data

Title: NASA acquisition process, Purchase Orders and the use of bank cards for purchases with an estimated value less than $100,000.

OMB Number: 2700-0086.

Type of Review: Extension of a currently approved collection.

Affected Public: Business or other for-profit; Not-for-profit institutions; and State, local or tribal government.

Estimated Number of Respondents: 137,086.

Estimated Annual Responses: 137,086.

Estimated Time per Response: 0.25 hours.

Estimated Total Annual Burden Hours: 43,245.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Gary L. Cox,
Deputy Chief Information Officer (Acting).

[FR Doc. E6-21854 Filed 12-20-06; 8:45 am]

BILLING CODE 7510-13-P